ENVIRONMENTAL PROTECTION AGENCY

[EPA-HQ-OPP-2009-1017; FRL-9377-2]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a December 5, 2012 Federal Register Notice of Receipt of Requests from the registrants listed in Table 2 of Unit II. to voluntarily cancel these product registrations. In the December 5, 2012 notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective February 20, 2013.

FOR FURTHER INFORMATION CONTACT: John W. Pates, Jr., Pesticide Re-Evaluation Division (7508P), Office of Pesticide Programs, Environmental Protection Agency, 1200 Pennsylvania Ave., NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 41 products registered under FIFRA section 3. These registrations are listed in sequence by registration number in Table 1 of this unit.

Table 1—Product Cancellations
EPA Registration No. | Product name | Chemical name
000100-00641 | Banner Fungicide | Propiconazole
000100-00781 | Orbit 45W Fungicide | Propiconazole
000352-00558 | DuPont Muster Herbicide | Ethametsulfuron
000352-00559 | DuPont Etuametsulfuron Methyl Technical Herbicide | Ethametsulfuron
000499-00518 | Prescription Treatment Brand 2% Propoxur Bait | Propoxur
009404-00087 | Permethrin 0.25% Insecticide Granules | Permethrin
009404-00088 | Sunniland Chinch Bug & Mole Cricket Spray | Permethrin
010163-00298 | GWN-3772 Technical | Tribenuron-methyl
010466-00024 | Ultrafresh 300 DD Nonionic | Triclosan/Tributyltin oxide (no inert use)
010466-00043 | T-Bate | Tributyltin oxide (no inert use)
010807-00146 | Weed-A-Cide Concentrate | Prometon
010807-00206 | Misty Weed-A-Cide CF | Prometon
010807-00444 | CB Fogger IV | Tetramethrin/Esfenvalerate
010807-00451 | Bee, Wasp & Hornet Jet Stream | Phenothrin/Tetramethrin
028293-00293 | Unicorn 30 Day Flea & Tick Treatment | Permethrin
028293-00357 | Unicorn 45% Permethrin Fly & Tick Insecticide | Permethrin
028293-00358 | Unicorn 45% Permethrin Flee & Tick Insecticide | Permethrin
038167-00029 | Mach 2 1.5G | Benzoic acid,4- chloro-,2-benzoyl-2- (1,1-dimethylethyl) hydrazide
061483-00058 | Pentacon-7 | Pentachlorophenol
061483-00059 | Pentacon-10 | Pentachlorophenol
062719-00351 | Dursban HF Insecticidal Concentrate | Chlorpyrifos
062719-00352 | Dursban W Insecticidal Chemical | Chlorpyrifos
062719-00364 | Dursban 20 MEC Microencapsulated Insecticidal Concentrate | Chlorpyrifos
066222-00025 | Pramitol 1.5% Liquid Vegetation Killer | Prometon
066222-00044 | Pramitol 1.8L | Prometon
066222-00045 | Pramitol 2.2L | Prometon
066222-00052 | Pramitol 1.8 RTU | Prometon
066222-00118 | Bumper 41.8 EC Calif. | Propiconazole
066330-00037 | Chloropicrin | Chloropicrin
066330-00047 | TM-442 | Chloropicrin
066330-00228 | Malathion Technical | Malathion (no inert use)
066330-00248 | Malathion 8EC | Malathion (no inert use)
066330-00325 | Propiconazole 14.3% T&O | Propiconazole
066330-00331 | Bifenthrin 13% MUP | Bifenthrin
068451-00003 | Deltamethrin Technical Insecticide (micronized) | Deltamethrin
068451-00004 | Deltamethrin Technical Insecticide | Deltamethrin
073327-00011 | Green Light Conquest Indoor & Outdoor Pest Control | Permethrin
073327-00012 | Green Light Conquest Insecticide Concentrate | Permethrin
075829-00001 | H2Pro Maintenance Treatment | Silver
088058-00002 | Chlorothalonil 720 Fungicide | Chlorothalonil
CA900030 | Pest Strip | Amvac Small Insect Strip

Table 2 of this unit includes the names and addresses of record for all registrants of the products in Table 1 of this unit, in sequence by EPA company number. This number corresponds to the first part of the EPA registration numbers of the products listed in Table 1 of this unit.

Table 2—Registrants of Cancelled Products
EPA Company No. | Company name and address
100 | Syngenta Crop Protection, LLC, 410 Swing Rd., P.O. Box 18300, Greensboro, NC 27419-8300.
352 | E.I. DuPont de Nemours and Company (S300/419) Manager, Registration & Regulatory Affairs, 1007 Market St., Wilmington, DE 19898-0001.
499 | Whitmire Micro-Gen Research Laboratories, Inc., Agent: BASF Corporation, 3568 Tree Court Industrial Blvd., St. Louis, MO 63122-6682.
9404 | Sunniland Corporation, P.O. Box 8001, Sanford, FL 32772-8001.
10163 | Gowan Company, P.O. Box 5569, Yuma, AZ 853668844.
10466 | Thomas Research Associates, Shenstone Estates, 17804 Braemar Plaza, Leesburg, VA 20176-7046.
10807 | Amreo, Inc., 990 Industrial Park Dr., Marietta, GA 30062.
28293 | Phaeton Corporation, P.O. Box 1019, Salem, VA 24153.
38167 | Helena Chemical Company, D/B/A Setre Chemical Company, 225 Schilling Blvd., Suite 300, Collierville, TN 38017.
61483 | KMG-Bernuth, Inc., 9555 W. Sam Houston Parkway South, Suite 600, Houston, TX 77099.
62719 | Dow Agrosciences, LLC, 9330 Zionsville Rd. 308/2E, Indianapolis, IN 46268-1054.
66222 | Makhteshim Agan of North America, Inc., 3120 Highwoods Blvd., Suite 100, Raleigh, NC 27604.
66330 | Arysta Lifescience North America, LLC, 15401 Weston Parkway, Suite 150, Cary, NC 27513.
68451 | Intervet, Inc., 556 Morris Avenue, S5-2145A, Summit, NJ 07901.
73327 | Swiss Farms Products, 3993 Howard Hughs Parkway, Suite 250, Las Vegas, NV 89109-6754.
75829 | Garrison Dental Solutions, 150 Dewitt Lane, Ispring Lake, MI 49456.
81880 | Canyon Group, LLC, C/O Gowan Company, 370 S. Main St., Yuma, AZ 85364.
88058 | Orion Ato, LLC, Agent: Source Dynamics, LLC, S122230 E. Del Norte, Yuma, AZ 85377-7355.
CA 900030 | California Dept. of Food and Agriculture, 1220 N. St., Room 221, Sacramento, CA 95814.

III. Summary of Public Comments Received and Agency Response to Comments

During the public comment period provided, EPA received no comments in response to the December 5, 2012 (77 FR 72343) (FRL-9370-4) Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is February 20, 2013. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of December 5, 2012. The comment period closed on January 4, 2013.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until February 20, 2014, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: February 8, 2013.
Richard P. Keigwin,
Director, Pesticide Re-Evaluation Division, Office of Pesticide Programs.

[FR Doc. 2013-03843 Filed 2-19-13; 8:45 am]

BILLING CODE 6560-50-P